DEPARTMENT OF COMMERCE

International Trade Administration

A-357-812

Honey from Argentina: Notice of Partial Rescission of Antidumping Duty Administrative Review

AGENCY: Import Administration, International Trade Administration, Department of Commerce.

SUMMARY: The Department of Commerce (the Department) is partially rescinding its administrative review of the antidumping duty order on honey from Argentina for the period December 1, 2006, to November 30, 2007 with respect to eleven companies. This rescission, in part, is based on the timely withdrawal of the request for review by the interested parties that requested the review. A complete list of the companies for which the administrative review is being rescinded is provided in the background section below.

EFFECTIVE DATE: June 16, 2008

FOR FURTHER INFORMATION CONTACT: Deborah Scott or Robert James, AD/CVD Operations, Office 7, Import Administration, International Trade Administration, U.S. Department of Commerce, 14th Street and Constitution Avenue, NW, Room 7866, Washington, DC 20230; telephone: (202) 482-2657 or (202) 482-0649, respectively.

SUPPLEMENTARY INFORMATION:

BACKGROUND:

On December 3, 2007, the Department published in the Federal Register its notice of opportunity to request an administrative review of the antidumping duty order on honey from Argentina. See Antidumping or Countervailing Duty Order, Finding, or Suspended Investigation; Opportunity to Request Administrative Review, 72 FR 67889 (December 3, 2007). In response, on December 31, 2007, the American Honey Producers Association and the Sioux Honey Association (collectively, petitioners) requested an administrative review of the antidumping duty order on honey from Argentina for the period December 1, 2006, through November 30, 2007. The petitioners requested that the Department conduct an administrative review of entries of subject merchandise made by thirteen Argentine producers/exporters.¹ In addition, the Department received requests for review from four Argentine exporters included in the petitioners’ request. Furthermore, the Department received one request from an exporter that was not included in petitioners’ request for review.

On January 28, 2008, the Department initiated a review of the 14 companies² for which an administrative review was requested. See Initiation of Antidumping and Countervailing Duty Administrative Reviews and Request for Revocation in Part, 73 FR 4829 (January 28, 2008).

On February 19, 2007, petitioners timely withdrew their requests for review of the following companies: AGLH S.A., Algodonera Avellaneda S.A., Bomare S.A. (Bodegas Miguel Armengol), Mercoline S.A., Productos Afer S.A., and Seabird Argentina S.A. On March 18, 2008, petitioners timely withdrew their requests for review of El Mana S.A., HoneyMax S.A., and Nexco S.A. On May 22, 2008, both petitioners and CAA/Mielar submitted letters withdrawing their requests for an administrative review of CAA/Mielar.

Scope of the Order

The merchandise covered by the order is honey from Argentina. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise under the scope of the order is currently classifiable under subheadings 0409.00.00, 1702.90.90, and 2106.90.99 of the Harmonized Tariff Schedule of the United States (HTSUS). Although the HTSUS subheadings are provided for convenience and U.S. Customs and Border Protection (CBP) purposes, the Department's written description of the merchandise under this order is dispositive.

Rescission, in Part, of Administrative Review

Section 351.213(d)(1) of the Department's regulations provides that the Department will rescind an administrative review if the party that requested the review withdraws its request for review within 90 days of the date of publication of the notice of initiation of the requested review, or withdraws at a later date if the Department determines it is reasonable to extend the time limit for withdrawing the request.

The petitioners timely withdrew their requests for an administrative review within the 90-day deadline for the following companies: AGLH S.A., Algodonera Avellaneda S.A., Bomare S.A. (Bodegas Miguel Armengol), El Mana S.A., HoneyMax S.A., Mercoline S.A., Nexco S.A., Productos Afer S.A., and Seabird Argentina S.A. Because the petitioners were the only party to request administrative review of each of these companies, we are rescinding the review with regard to AGLH S.A., Algodonera Avellaneda S.A., Bomare S.A. (Bodegas Miguel Armengol), El Mana S.A., HoneyMax S.A., Mercoline S.A., Nexco S.A., Productos Afer S.A., and Seabird Argentina S.A.

With respect to CAA/Mielar, both petitioners and CAA/Mielar withdrew their review requests after the 90-day deadline, despite petitioners’ and CAA/Mielar’s claims to the contrary in their May 22, 2008 requests for withdrawal. However, the Department finds it reasonable to extend the withdrawal deadline for CAA/Mielar because the Department has not yet devoted significant time or resources to this review. Further, we find that neither petitioners' nor CAA/Mielar’s withdrawal of their requests for a review of CAA/Mielar constitutes an abuse of our procedures. See, e.g., Persulfates from the People's Republic of China: Notice of Rescission of Antidumping Duty Administrative Review, 71 FR 13810, 13811 (March 17, 2006). As a result, we are rescinding this review with regard to CAA/Mielar.

The Department will issue appropriate assessment instructions directly to U.S. Customs and Border Protection (CBP) 15 days after the publication of this notice. The Department will direct CBP to assess antidumping duties for these companies at the cash deposit rate in effect on the date of entry for entries during the period December 1, 2006 to November 30, 2007.

Notification to Parties

This notice serves as a reminder to importers of their responsibility under section 351.402(f) of the Department's regulations to file a certificate regarding the reimbursement of antidumping duties prior to liquidation of the relevant entries during this period of time. Failure to comply with this requirement could result in the Secretary's presumption that reimbursement of antidumping duties occurred and subsequent assessment of double antidumping duties.

This notice also serves as a reminder to parties subject to administrative protective order (APO) of their responsibility concerning the disposition of proprietary information disclosed under APO in accordance with section 351.305(a)(3) of the Department's regulations. Timely written notification of the return or destruction of APO materials or conversion to judicial protective order is hereby requested. Failure to comply with the regulations and terms of an APO is a sanctionable violation.

This notice is issued and published in accordance with section 351.213(d)(4) of the Department's regulations and sections 751(a)(1) and 777(i)(1) of the Tariff Act of 1930, as amended.

Dated: June 9, 2008.
Stephen J. Claeys,
Deputy Assistant Secretary for Import Administration.

¹ Petitioners requested Compania Apicola Argentina S.A. (CAA) and Mielar S.A. (Mielar) as separate entities. However, in a previous segment of this proceeding, the Department treated these two companies as a single entity.

² The Federal Register notice lists 15 companies but, as explained in footnote 1, CAA and Mielar are currently being treated as a single entity based on decisions made in a previous segment of this proceeding. Accordingly, there are a total of 14 companies for which reviews were requested.

[FR Doc. E8-13481 Filed 6-13-08; 8:45 am]

BILLING CODE 3510-DS-S